DEPARTMENT OF ENERGY

Federal Energy Regulatory Commission

[Docket No. ER02-2516-003, et al.]

Westar Energy, Inc., et al.; Electric Rate and Corporate Filings

February 9, 2005.

The following filings have been made with the Commission. The filings are listed in ascending order within each docket classification.

1. Westar Energy, Inc.

[Docket No. ER02-2516-003]

Take notice that on February 4, 2005, Westar Energy, Inc. (Westar) tendered for filing First Revised Sheet Nos. 5 and 5 as part of its First Revised FERC Electric Rate Schedule No. 227, between Westar and the City of Axtell, Kansas (Axtell). Westar states that the purpose of this filing is to remove an unexecuted second amendment that was never agreed to by Westar and Axtell and that never went into effect, which was erroneously filed with the Commission.

Westar states that copies of the filing were served upon the City of Axtell, Kansas and the Kansas Corporation Commission.

Comment Date: 5 p.m. Eastern Time on February 25, 2005.

2. Midwest Independent Transmission System Operator, Inc.

[Docket Nos. ER03-86-009, ER03-83-008]

Take notice that on February 4, 2004, the Midwest Independent Transmission System Operator, Inc. (Midwest ISO) submitted an amendment to its January 8, 2005 filing in Docket Nos. ER03-86-008 and ER03-83-007 regarding proposed revisions to the Midwest ISO Open Access Transmission Tariff (OATT) to remove all TRANSLink references from the OATT in compliance to the Commission's order issued December 29, 2004, Midwest Independent Transmission System Operator, Inc. 109 FERC 61,374 (2004). The Midwest ISO requests an effective date of October 30, 2004.

The Midwest ISO states that it has electronically served a copy of this filing, with attachments, upon all Midwest ISO Members, Member representatives of Transmission Owners and Non-Transmission Owners, the Midwest ISO Advisory Committee participants, as well as all State commissions within the region. In addition, the Midwest ISO states that the filing has been electronically posted on the Midwest ISO's Web site at http://www.midwestiso.org under the heading “Filings to FERC” for other interested parties in this matter and that it will provide hard copies to any interested parties upon request.

Comment Date: 5 p.m. Eastern Time on February 25, 2005.

3. New York Independent System Operator, Inc.

[Docket No. ER03-836-006]

Take notice that on January 14, 2005, New York Independent System Operator, Inc. (NYISO) submitted a motion to temporarily defer the schedule set forth in its July 6, 2004 compliance filing in Docket No. ER03-486-004 for the implementation of a non-bid based self-supply option for Operating Reserve.

NYISO states that it has served a copy of the filing on all parties on the official service list in this proceeding, including the New York Public Service Commission, and to the electric utility regulatory agencies in New Jersey and Pennsylvania.

Comment Date: 5 p.m. Eastern Time on February 22, 2005.

4. FPL Energy Sooner Wind, LLC

[Docket No. ER03-1333-002]

Take notice that, on February 4, 2005, FPL Energy Sooner Wind, LLC submitted a compliance filing pursuant to the Commission order issued November 17, 2003, in Docket No. EL01-118-000, et al. Investigation of Terms and Conditions of Public Utility Market-Based Rate Authorizations, 105 FERC ¶ 61,218 (2003). FPL Energy Sooner Wind, LLC states that it is amending its market-based rate tariff to include the market behavior rules.

FPL Energy Sooner Wind, LLC states that copies of the filing were served on parties on the official service list in the above-captioned proceeding.

Comment Date: 5 p.m. Eastern Time on February 25, 2005.

5. PJM Interconnection, L.L.C.

[Docket No. ER04-539-007]

Take notice that, on February 4, 2005, PJM Interconnection, L.L.C. (PJM) submitted its responses to the Commission's deficiency letter issued January 5, 2005 in Docket No. ER04-539-006, amending PJM's filings of October 26, 2004 and December 6, 2004 in Docket No. ER04-539-006.

PJM states that copies of the filing were served on parties on the official service list in this proceeding.

Comment Date: 5 p.m. Eastern Time on February 25, 2005.

6. Mitchell Electric Membership Corporation

[Docket No. ER05-350-001]

Take notice that on February 4, 2005, Mitchell Electric Membership Corporation (Mitchell) tendered for filing additional information to supplement its petition for acceptance of initial rate schedule, waivers and blanket authority filed on December 16, 2004 in Docket No. ER05-350-000.

Comment Date: 5 p.m. Eastern Time on February 25, 2005.

7. Wisconsin Electric Power Company

[Docket No. ER05-540-000]

Take notice that on February 4, 2005, Wisconsin Electric Power Company (Wisconsin Electric) submitted revisions to its Market Based Power Sales and Resale Transmission Tariff, FERC Electric Tariff, Original Volume No. 8. Wisconsin Electric states that the changes would permit it to sell power into the Midwest Independent System Operator's (Midwest ISO) Day 2 Energy Market at market-based rates in the region described in Wisconsin Electric's Tariff as the “Restricted Area.” Wisconsin Electric requests an effective date concurrent with the commencement of the Midwest ISO's Day 2 Energy Market, now scheduled to occur on April 1, 2005.

Wisconsin Electric states that copies of the filing were served on all of its customers under the Market Rate Tariff, as well as the regulatory bodies in Wisconsin and Michigan.

Comment Date: 5 p.m. Eastern Time on February 25, 2005.

8. New England Power Company

[Docket No. ER05-541-000]

Take notice that on February 4, 2005, New England Power Company (NEP) submitted for filing an Interconnection Agreement between NEP and TransCanada Hydro Northeast Inc. (TransCanada), designated as Original Service Agreement No. 13 under ISO New England Inc.'s FERC Electric Tariff No. 3. NEP states that the agreement concerns the interconnection of the Deerfield No. 3 Development, a hydro-electric generating unit, to NEP's transmission system.

NEP states that copies of the filing have been served on TransCanada, ISO New England, Inc. and applicable State regulators.

Comment Date: 5 p.m. Eastern Time on February 25, 2005.

9. New England Power Company

[Docket No. ER05-542-000]

Take notice that on February 4, 2005, New England Power Company (NEP) submitted for filing an Interconnection Agreement between NEP and TransCanada Hydro Northeast Inc. (TransCanada), designated as Original Service Agreement No. 19 under ISO New England Inc.'s FERC Electric Tariff No. 3. NEP states that the agreement concerns the interconnection of the Searsburg Station, a hydro-electric generating unit, to NEP's transmission system.

NEP states that copies of the filing have been served on TransCanada, ISO New England, Inc. and applicable State regulators.

Comment Date: 5 p.m. Eastern Time on February 25, 2005.

10. New England Power Company

[Docket No. ER05-543-000]

Take notice that on February 4, 2005, New England Power Company (NEP) submitted for filing an Interconnection Agreement between NEP and TransCanada Hydro Northeast Inc. (TransCanada), designated as Original Service Agreement No. 10 under ISO New England Inc.'s FERC Electric Tariff No. 3. NEP states that the agreement concerns the interconnection of the Bellow Falls Project, a hydro-electric generating unit, to NEP's transmission system.

NEP states that copies of the filing have been served on TransCanada, ISO New England, Inc. and applicable State regulators.

Comment Date: 5 p.m. Eastern Time on February 25, 2005.

11. New England Power Company

[Docket No. ER05-544-000]

Take notice that on February 4, 2005, New England Power Company (NEP) submitted for filing an Interconnection Agreement between NEP and TransCanada Hydro Northeast Inc. (TransCanada), designated as Original Service Agreement No. 11 under ISO New England Inc.'s FERC Electric Tariff No. 3. NEP states that the agreement concerns the interconnection of the Comerford Development, a hydro-electric generating unit, to NEP's transmission system.

NEP states that copies of the filing have been served on TransCanada, ISO New England, Inc. and applicable State regulators.

Comment Date: 5 p.m. Eastern Time on February 25, 2005.

12. New England Power Company

[Docket No. ER05-545-000]

Take notice that on February 4, 2005, New England Power Company (NEP) submitted for filing an Interconnection Agreement between NEP and TransCanada Hydro Northeast Inc. (TransCanada), designated as Original Service Agreement No. 21 under ISO New England Inc.'s FERC Electric Tariff No. 3. NEP states that the agreement concerns the interconnection of the Vernon Station, a hydro-electric generating unit, to NEP's transmission system.

NEP states that copies of the filing have been served on TransCanada, ISO New England, Inc. and applicable State regulators.

Comment Date: 5 p.m. Eastern Time on February 25, 2005.

13. New England Power Company

[Docket No. ER05-546-000]

Take notice that on February 4, 2005, New England Power Company (NEP) submitted for filing an Interconnection Agreement between NEP and TransCanada Hydro Northeast Inc. (TransCanada), designated as Original Service Agreement No. 18 under ISO New England Inc.'s FERC Electric Tariff No. 3. NEP states that the agreement concerns the interconnection of the Moore Development, a hydro-electric generating unit, to NEP's transmission system.

NEP states that copies of the filing have been served on TransCanada, ISO New England, Inc. and applicable State regulators.

Comment Date: 5 p.m. Eastern Time on February 25, 2005.

14. New England Power Company

[Docket No. ER05-547-000]

Take notice that on February 4, 2005, New England Power Company (NEP) submitted for filing an Interconnection Agreement between NEP and TransCanada Hydro Northeast Inc. (TransCanada), designated as Original Service Agreement No. 14 under ISO New England Inc.'s FERC Electric Tariff No. 3. NEP states that the agreement concerns the interconnection of the Deerfield No. 4 Development, a hydro-electric generating unit, to NEP's transmission system.

NEP states that copies of the filing have been served on TransCanada, ISO New England, Inc. and applicable State regulators.

Comment Date: 5 p.m. Eastern Time on February 25, 2005.

15. New England Power Company

[Docket No. ER05-548-000]

Take notice that on February 4, 2005, New England Power Company (NEP) submitted for filing an Interconnection Agreement between NEP and TransCanada Hydro Northeast Inc. (TransCanada), designated as Original Service Agreement No. 20 under ISO New England Inc.'s FERC Electric Tariff No. 3. NEP states that the agreement concerns the interconnection of the Sherman Development, a hydro-electric generating unit, to NEP's transmission system.

NEP states that copies of the filing have been served on TransCanada, ISO New England, Inc. and applicable State regulators.

Comment Date: 5 p.m. Eastern Time on February 25, 2005.

16. New England Power Company

[Docket No. ER05-549-000]

Take notice that on February 4, 2005, New England Power Company (NEP) submitted for filing an Interconnection Agreement between NEP and TransCanada Hydro Northeast Inc. (TransCanada), designated as Original Service Agreement No. 15 under ISO New England Inc.'s FERC Electric Tariff No. 3. NEP states that the agreement concerns the interconnection of the Deerfield No. 5 Development, a hydro-electric generating unit, to NEP's transmission system.

NEP states that copies of the filing have been served on TransCanada, ISO New England, Inc. and applicable State regulators.

Comment Date: 5 p.m. Eastern Time on February 25, 2005.

17. New England Power Company

[Docket No. ER05-550-000]

Take notice that on February 4, 2005, New England Power Company (NEP) submitted for filing an Interconnection Agreement between NEP and TransCanada Hydro Northeast Inc. (TransCanada), designated as Original Service Agreement No. 12 under ISO New England Inc.'s FERC Electric Tariff No. 3. NEP states that the agreement concerns the interconnection of the Deerfield No. 2 Development, a hydro-electric generating unit, to NEP's transmission system.

NEP states that copies of the filing have been served on TransCanada, ISO New England, Inc. and applicable State regulators.

Comment Date: 5 p.m. Eastern Time on February 25, 2005.

18. New England Power Company

[Docket No. ER05-551-000]

Take notice that on February 4, 2005, New England Power Company (NEP) submitted for filing an Interconnection Agreement between NEP and TransCanada Hydro Northeast Inc. (TransCanada), designated as Original Service Agreement No. 22 under ISO New England Inc.'s FERC Electric Tariff No. 3. NEP states that the agreement concerns the interconnection of the Wilder Project, a hydro-electric generating unit, to NEP's transmission system.

NEP states that copies of the filing have been served on TransCanada, ISO New England, Inc. and applicable State regulators.

Comment Date: 5 p.m. Eastern Time on February 25, 2005.

19. New England Power Company

[Docket No. ER05-552-000]

Take notice that on February 4, 2005, New England Power Company (NEP) submitted for filing an Interconnection Agreement between NEP and TransCanada Hydro Northeast Inc. (TransCanada), designated as Original Service Agreement No. 16 under ISO New England Inc.'s FERC Electric Tariff No. 3. NEP states that the agreement concerns the interconnection of the Harriman Development, a hydro-electric generating unit, to NEP's transmission system.

NEP states that copies of the filing have been served on TransCanada, ISO New England, Inc. and applicable State regulators.

Comment Date: 5 p.m. Eastern Time on February 25, 2005.

20. New England Power Company

[Docket No. ER05-553-000]

Take notice that on February 4, 2005, New England Power Company (NEP) submitted for filing an Interconnection Agreement between NEP and TransCanada Hydro Northeast Inc. (TransCanada), designated as Original Service Agreement No. 17 under ISO New England Inc.'s FERC Electric Tariff No. 3. NEP states that the agreement concerns the interconnection of the McIndoes Falls Development, a hydro-electric generating unit, to NEP's transmission system.

NEP states that copies of the filing have been served on TransCanada, ISO New England, Inc. and applicable State regulators.

Comment Date: 5 p.m. Eastern Time on February 25, 2005.

21. PacifiCorp

[Docket No. ER05-554-000]

Take notice that on February 4, 2005, PacifiCorp tendered for filing Generation Interconnection Agreements between PacifiCorp and Roseburg Forest Products Inc.; TDY Industries, Inc., a California corporation d/b/a Wah Chang; and Warm Springs Power Enterprises. PacifiCorp also filed a Transmission Service Agreement between PacifiCorp and Warm Springs Power Enterprises.

Comment Date: 5 p.m. Eastern Time on February 25, 2005.

22. Wisconsin Electric Power Company

[Docket No. ER05-556-000]

Take notice that on February 4, 2005, Wisconsin Electric Power Company (Wisconsin Electric) submitted revisions to its Market-Based Power Sales and Resale Transmission Tariff, Wisconsin Electric's FERC Electric Tariff, Original Volume No. 8 which reflect administrative updates, including the fact that Wisconsin Electric is no longer a transmission provider. Wisconsin Electric requests an effective date of April 5, 2005.

Wisconsin Electric states that copies of the filing were served on all of its customers under the Market Rate Tariff, as well as the regulatory bodies in Wisconsin and Michigan.

Comment Date: 5 p.m. Eastern Time on February 25, 2005.

23. Grant Energy, Inc.

[Docket No. ER05-557-000]

Take notice that on February 4, 2005, Grant Energy, Inc. (Grant) filed an application for authorization to sell energy, capacity and ancillary services at market-based rates. Grant states that it intends to engage in wholesale electric power and energy purchases and sales as a marketer and is not in the business of generating or transmitting electric power. Grant requests an effective date of March 1, 2005.

Comment Date: 5 p.m. Eastern Time on February 25, 2005.

24. People's Electric Cooperative

[Docket No. ER05-558-000]

Take notice that on February 4, 2005, People's Electric Cooperative (People's) submitted an amendment to its Rate Schedule No. 1 for service to Chickasaw Tribal Utility Authority (CTUA) to add a new delivery point for service to CTUA.

People's states that a copy of the filing was served on CTUA and the Oklahoma Corporation Commission.

Comment Date: 5 p.m. Eastern Time on February 25, 2005.

25. United States Department of Energy, Bonneville Power Administrative

[Docket No. NJ05-2-000]

Take notice that on February 4, 2005, the United States Department of Energy, Bonneville Power Administration (Bonneville) submitted new tariff sheets to incorporate into its Open Access Transmission Tariff the Large Generator Interconnection Procedures and Large Generator Interconnection Agreement, as set forth in the Commission's Order No. 2003, Standardization of Generator Interconnection Agreements and Procedures, 104 FERC ¶ 61,103 (2003) and Order No. 2003-A, Standardization of Generator Interconnection Agreements and Procedures, 106 FERC ¶ 61,220 (2004). Bonneville also submitted Revised Tariff Sheet Nos. 133-135 to amend its existing Interconnection Procedures so that they do not apply to generation interconnections.

Bonneville states that an electronic copy of the filing has been sent to all of its transmission customers and has been posted on the Bonneville Transmission Business Line's Web site.

Comment Date: 5 p.m. Eastern Time on February 25, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-633 Filed 2-15-05; 8:45 am]

BILLING CODE 6717-01-P